DEPARTMENT OF COMMERCE

National Oceanic and Atmospheric Administration

50 CFR Parts 300 and 635

[I.D. 040604C]

International Fisheries; Atlantic Highly Migratory Species

AGENCY: National Marine Fisheries Service (NMFS), National Oceanic and Atmospheric Administration (NOAA), Commerce.

ACTION: Notice of public hearings.

SUMMARY: NMFS will hold six public hearings to receive public comment regarding proposed regulations to establish the Highly Migratory Species International Trade Permit and implement reporting requirements associated with the international trade of bluefin tuna, bigeye tuna, southern bluefin tuna, and swordfish. The proposed rule for this action was published in the Federal Register on March 29, 2004.

DATES: The public hearings will be held in April and May 2004. For specific dates and times, see SUPPLEMENTARY INFORMATION. Comments on the proposed rule must be received no later than 5 p.m. on May 10, 2004.

ADDRESSES: The public hearings will be held in Miami, FL; New York City, NY; Honolulu, HI; Piti, Guam; and Long Beach, CA. For specific locations, see SUPPLEMENTARY INFORMATION. Written comments should be mailed to Dianne Stephan, Highly Migratory Species Management Division, NMFS, One Blackburn Drive, Gloucester, MA, 01930. Comments may be submitted by e-mail. The mailbox address for providing e-mail comments is NeroHMSTrade@noaa.gov. Include in the subject line of the e-mail comment the following document identifier: Nero HMS Trade Rule.

FOR FURTHER INFORMATION CONTACT: Dianne Stephan (Atlantic coast or other), 978-281-9397; Raymond Clarke (Western Pacific), 808-973-2935; David Hamm (Guam) 808-983-5330, Lori Robinson (Gulf coast), 228-769-8964; or Patricia J. Donley (West coast), 562-980-4033.

SUPPLEMENTARY INFORMATION: The proposed regulations would implement the recommendations of the International Commission for the Conservation of Atlantic Tunas (ICCAT) to track the international trade of swordfish and bigeye tuna, would implement the recommendation of the Inter-American Tropical Tuna Commission (IATTC) to track the international trade of bigeye tuna, would require dealers to comply with the southern bluefin tuna statistical document program adopted by the Commission for the Conservation of Southern Bluefin Tuna, and would expand the current bluefin tuna statistical document program to include the re-export of bluefin tuna. The Atlantic Tuna Conventions Act of 1975 (16 U.S.C. 971 et seq.) authorizes the promulgation of regulations as may be necessary and appropriate to implement ICCAT recommendations. The Tuna Conventions Act of 1950 (16 U.S.C. 951 et seq.) authorizes rulemaking to carry out IATTC recommendations. A complete description of the proposed regulatory measures, as well as the purpose and need for the proposed actions, is contained in the proposed rule (March 29, 2004, 69 FR 16211) and is not repeated here.

Schedule of Public Hearings

The dates, times, and locations of the meetings are scheduled as follows:

1. Wednesday, April 21, 2004 - Miami, FL, 1-3 p.m.

Embassy Suites Hotel, 3974 NW South River Drive, Miami, FL

2. Thursday, April 22, 2004 - New York City, NY, 9:30-11:30 a.m.

Holiday Inn Wall Street, 15 Gold Street, New York City, NY

3. Thursday, April 29, 2004 - Honolulu, HI, 1-3 p.m.

NOAA Fisheries Pacific Islands Regional Office, 1601 Kapiolani Boulevard, Suite 1110, Honolulu, HI

4. Tuesday, May 4, 2004 - Piti, Guam, 1-3 p.m.

Port Authority of Guam, 1026 Cabras Highway, Piti, Guam

5. Thursday, May 6, 2004 - Long Beach, CA, 9-11 a.m. and 1-3 p.m.

NOAA Fisheries, Southwest Regional Office, Glen M. Anderson Federal Building, 501 West Ocean Boulevard, Suite 4200, Long Beach, CA

Special Accomodations

These meetings are physically accessible to people with disabilities. Requests for sign language interpretation or other auxiliary aids should be directed to Dianne Stephan, (978) 281-9397, at least 7 days prior to the hearing in question.

Dated: April 6, 2004.
Alan D. Risenhoover,
Acting Director, Office of Sustainable Fisheries, National Marine Fisheries Service.

[FR Doc. 04-8234 Filed 4-7-04; 2:22 pm]

BILLING CODE 3510-22-S